DEPARTMENT OF TRANSPORTATION

Federal Aviation Administration

14 CFR Part 95

[Docket No. 31543; Amdt. No. 578]

IFR Altitudes; Miscellaneous Amendments

AGENCY: Federal Aviation Administration (FAA), Department of Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, May 16, 2024.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73169-6918. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on March 21, 2024.
Thomas J. Nichols,
Aviation Safety, Flight Standards Service. Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, May 16, 2024.

PART 95—IFR ALTITUDES

1. The authority citation for part 95 continues to read as follows:

Authority: 49 U.S.C. 106(g), 40103, 40113 and 14 CFR 11.49(b)(2).

2. Part 95 is amended to read as follows:

Revisions to IFR Altitudes & Changeover Point
[Amendment 578 effective date May 16, 2024]
From | To | MEA
§ 95.1001 Direct Routes-U.S.
§ 95.4 Green Federal Airway G4 Is Amended To Delete
WOOD RIVER, AK NDB | ILIAMNA, AK NDB/DME | * 4500
* 3000—MOCA
§ 95.6 Blue Federal Airway B12 Is Amended To Delete
WOODY ISLAND, AK NDB | ILIAMNA, AK NDB/DME | * 10000
* 9300—MOCA

From | To | MEA | MAA
§ 95.3000 Low Altitude RNAV Routes
§ 95.3303 RNAV Route T303 Is Added To Read
KINSTON, NC VORTAC | KOHLS, NC WP | 1900 | 17500
KOHLS, NC WP | NORFOLK, VA VORTAC | 1800 | 17500
NORFOLK, VA VORTAC | OUTLA, VA WP | 1800 | 17500
OUTLA, VA WP | JAMIE, VA FIX | 1800 | 17500
JAMIE, VA FIX | MAGGO, MD FIX | 1700 | 17500
MAGGO, MD FIX | TRPOD, MD WP | 1800 | 17500
TRPOD, MD WP | WATERLOO, DE VOR/DME | 1900 | 17500
WATERLOO, DE VOR/DME | LEEAH, NJ FIX | 1800 | 17500
LEEAH, NJ FIX | DIXIE, NJ FIX | 1900 | 17500
DIXIE, NJ FIX | KENNEDY, NY VOR/DME | 2000 | 17500
KENNEDY, NY VOR/DME | DEER PARK, NY VOR/DME | 2000 | 17500
DEER PARK, NY VOR/DME | MADISON, CT VOR/DME | 2000 | 17500
MADISON, CT VOR/DME | WEGOT, CT FIX | 2400 | 17500
WEGOT, CT FIX | HARTFORD, CT VOR/DME | 2600 | 17500
HARTFORD, CT VOR/DME | DVANY, CT FIX | 2700 | 17500
DVANY, CT FIX | GRAYM, MA FIX | 3000 | 17500
GRAYM, MA FIX | GRIPE, MA FIX | * 2800 | 17500
* 2300—MOCA
GRIPE, MA FIX | BOSTON, MA VOR/DME | 2600 | 17500
§ 95.3307 RNAV Route T307 Is Added To Read
PEARS, NC FIX | SUNNS, NC FIX | 1800 | 17500
SUNNS, NC FIX | NORFOLK, VA VORTAC | 2000 | 17500
NORFOLK, VA VORTAC | OUTLA, VA WP | 1800 | 17500
OUTLA, VA WP | DUNFE, VA FIX | 1800 | 17500
DUNFE, VA FIX | ZJAAY, MD WP | 1800 | 17500
ZJAAY, MD WP | CBEAV, MD FIX | 1800 | 17500
CBEAV, MD FIX | RADDS, DE FIX | 1800 | 17500
RADDS, DE FIX | SEWEL, NJ FIX | 2000 | 17500
SEWEL, NJ FIX | WNSTN, NJ WP | 1800 | 17500
WNSTN, NJ WP | LEEAH, NJ FIX | * 2000 | 17500
* 1500—MOCA
LEEAH, NJ FIX | BRIEF, NJ FIX | 1900 | 17500
BRIEF, NJ FIX | TEBEE, NJ FIX | 1800 | 17500
TEBEE, NJ FIX | CHAZR, DE WP | 1900 | 17500
CHAZR, DE WP | APEER, MD WP | 2000 | 17500
APEER, MD WP | REESY, PA WP | 2000 | 17500
REESY, PA WP | PADRE, PA FIX | 2500 | 17500
PADRE, PA FIX | GEERI, PA FIX | 2700 | 17500
GEERI, PA FIX | ROAST, PA FIX | 2600 | 17500
ROAST, PA FIX | DELRO, PA FIX | 2900 | 17500
DELRO, PA FIX | FAMAV, PA FIX | 2900 | 17500
FAMAV, PA FIX | HARRISBURG, PA VORTAC | 3000 | 17500
HARRISBURG, PA VORTAC | * PYCAT, PA FIX | 3100 | 17500
* 4100—MCA PYCAT, PA FIX, NW BND
PYCAT, PA FIX | MCMAN, PA FIX | 4400 | 17500
MCMAN, PA FIX | RASHE, PA FIX | 4600 | 17500
RASHE, PA FIX | PHILIPSBURG, PA VORTAC | 4900 | 17500
PHILIPSBURG, PA VORTAC | BLAZE, PA FIX | 4900 | 17500
BLAZE, PA FIX | DLMAR, PA WP | 4600 | 17500
DLMAR, PA WP | STUBN, NY WP | 4000 | 17500
STUBN, NY WP | XUCCO, NY FIX | 3700 | 17500
XUCCO, NY FIX | VAFKU, NY FIX | 3600 | 17500
VAFKU, NY FIX | PTAKI, NY FIX | 3400 | 17500
PTAKI, NY FIX | SYRACUSE, NY VORTAC | 3300 | 17500
§ 95.3335 RNAV Route T335 Is Added To Read
ZJAAY, MD WP | TRPOD, MD WP | * 1800 | 17500
* 1400—MOCA
TRPOD, MD WP | EZIZI, DE FIX | 1900 | 17500
EZIZI, DE FIX | SMYRNA, DE VORTAC | 1800 | 17500
SMYRNA, DE VORTAC | DUPONT, DE VORTAC | 1800 | 17500
DUPONT, DE VORTAC | MARQI, PA WP | 2200 | 17500
MARQI, PA WP | POTTSTOWN, PA VORTAC | 2400 | 17500
POTTSTOWN, PA VORTAC | HIKES, PA | 2800 | 17500
HIKES, PA | EAST TEXAS, PA VOR/DME | 2900 | 17500
EAST TEXAS, PA VOR/DME | SLATT, PA FIX | 3300 | 17500
SLATT, PA FIX | WHITT, PA FIX | 3800 | 17500
WHITT, PA FIX | * WLKES, PA WP | 4000 | 17500
* 4600—MCA WLKES, PA WP, N BND
WLKES, PA WP | * LECOR, PA FIX | 4800 | 17500
* 4800—MCA LECOR, PA FIX, S BND
LECOR, PA FIX | BINGHAMTON, NY VOR/DME | 3900 | 17500
BINGHAMTON, NY VOR/DME | CORTA, NY FIX | 3800 | 17500
CORTA, NY FIX | * TUMPS, NY FIX | 3700 | 17500
* 3000—MCA TUMPS, NY FIX, S BND
TUMPS, NY FIX | SYRACUSE, NY VORTAC | 2800 | 17500
§ 95.3340 RNAV Route T340 Is Added To Read
NORBY, HI WP | HLONO, HI WP | * 2800 | 17500
* 2200—MOCA
HLONO, HI WP | AARES, HI WP | * 2800 | 17500
* 2200—MOCA
AARES, HI WP | * CHAIN, HI FIX | 3800 | 17500
* 5000—MCA CHAIN, HI FIX, NE BND
CHAIN, HI FIX | WYLUA, HI WP | 5500 | 17500
WYLUA, HI WP | * BARBY, HI FIX | 4000 | 17500
* 8000—MCA BARBY, HI FIX, SE BND
BARBY, HI FIX | * LONOH, HI WP | ** 8000 | 17500
* 8000—MCA LONOH, HI WP, NW BND
** 4100—MOCA
LONOH, HI WP | * PLACK, HI WP | 1700 | 17500
* 3800—MCA PLACK, HI WP, SE BND
PLACK, HI WP | WAPIO, HI FIX | 4700 | 17500
WAPIO, HI FIX | VELLA, HI FIX | 4700 | 17500
VELLA, HI FIX | ARBOR, HI FIX | 4000 | 17500
ARBOR, HI FIX | HILO, HI VORTAC | 3800 | 17500
§ 95.3342 RNAV Route T342 Is Added To Read
KUHIO, HI WP | KOKO HEAD, HI VORTAC | 4800 | 17500
KOKO HEAD, HI VORTAC | ALAEY, HI WP | * 4700 | 17500
* 4100—MOCA
ALAEY, HI WP | DAKKL, HI FIX | * 4700 | 17500
* 1300—MOCA
DAKKL, HI FIX | PLUMB, HI FIX | 5900 | 17500
PLUMB, HI FIX | WYLUA, HI WP | * 4400 | 17500
* 1300—MOCA
WYLUA, HI WP | * MAUI, HI VORTAC | 4400 | 17500
* 7200—MCA MAUI, HI VORTAC, S BND
MAUI, HI VORTAC | * MAKEN, HI FIX | 8600 | 17500
* 8200—MCA MAKEN, HI FIX, N BND
MAKEN, HI FIX | * KOHAU, HI WP | 5700 | 17500
* 5000—MCA KOHAU, HI WP, NW BND
KOHAU, HI WP | * TAMMI, HI FIX | ** 2000 | 17500
* 2500—MCA TAMMI, HI FIX, S BND
** 1300—MOCA
TAMMI, HI FIX | KONA, HI VORTAC | 5300 | 17500
§ 95.3344 RNAV Route T344 Is Added To Read
NAPUA, HI FIX | KEOLA, HI FIX | 1700 | 17500
KEOLA, HI FIX | GECKO, HI FIX | 1700 | 17500
GECKO, HI FIX | JULLE, HI FIX | 1700 | 17500
JULLE, HI FIX | AHNAE, HI WP | * 2400 | 17500
* 1800—MOCA
AHNAE, HI WP | ZUKAH, HI WP | * 3100 | 17500
* 2500—MOCA
ZUKAH, HI WP | KONA, HI VORTAC | 5700 | 17500
§ 95.3346 RNAV Route T346 Is Added To Read
LIHUE, HI VORTAC | KPIPI, HI WP | * 4500 | 17500
* 3900—MOCA
KPIPI, HI WP | KIKKI, HI WP | * 3400 | 17500
* 1800—MOCA
KIKKI, HI WP | SHIGI, HI FIX | 4100 | 17500
SHIGI, HI FIX | KUHIO, HI WP | 4100 | 17500
KUHIO, HI WP | NORBY, HI WP | 3900 | 17500
NORBY, HI WP | * KHILI, HI WP | ** 4200 | 17500
* 5200—MCA KHILI, HI WP, E BND
** 3600—MOCA
KHILI, HI WP | * NAHUL, HI WP | ** 6500 | 17500
* 5200—MCA NAHUL, HI WP, W BND
** 5600—MOCA
NAHUL, HI WP | EELIO, HI WP | * 4400 | 17500
* 1300—MOCA
EELIO, HI WP | * KEAHO, HI WP | ** 4100 | 17500
* 5900—MCA KEAHO, HI WP, E BND
** 2700—MOCA
KEAHO, HI WP | MAKEN, HI FIX | 6500 | 17500
MAKEN, HI FIX | * NOWRA, HI WP | 6500 | 17500
* 5000—MCA NOWRA, HI WP, W BND
NOWRA, HI WP | PLACK, HI WP | * 1900 | 17500
* 1300—MOCA
§ 95.3432 RNAV Route T432 Is Added To Read
STUBN, NY WP | TIVUC, PA FIX | 3600 | 17500
TIVUC, PA FIX | OKZUS, PA FIX | 3400 | 17500
OKZUS, PA FIX | DOMVY, PA FIX | 3500 | 17500
DOMVY, PA FIX | BNELE, PA WP | 3600 | 17500
BNELE, PA WP | HAWLY, PA FIX | 4400 | 17500
HAWLY, PA FIX | HOPCE, NJ FIX | 3400 | 17500
HOPCE, NJ FIX | NEION, NJ FIX | 3500 | 17500
§ 95.3675 RNAV Route T675 Is Added To Read
SAULT STE MARIE, MI VOR/DME | U.S. CANADIAN BORDER | 2600 | 17500
U.S. CANADIAN BORDER | U.S. CANADIAN BORDER | 8000 | 17500
§ 95.3705 RNAV Route T705 Is Amended By Adding
NANTUCKET, MA VOR/DME | CLAMY, MA FIX | 1800 | 17500
CLAMY, MA FIX | LIBBE, NY FIX | * 2500 | 17500
* 1300—MOCA
LIBBE, NY FIX | ORCHA, NY WP | * 2500 | 17500
* 1600—MOCA
ORCHA, NY WP | CALVERTON, NY VOR/DME | 2000 | 17500
CALVERTON, NY VOR/DME | BELTT, NY FIX | 2000 | 17500
BELTT, NY FIX | BRIDGEPORT, CT VOR/DME | 1800 | 17500
BRIDGEPORT, CT VOR/DME | DENNA, CT FIX | 2100 | 17500
DENNA, CT FIX | FZOOL, CT FIX | 2400 | 17500
FZOOL, CT FIX | LOVES, CT FIX | 3000 | 17500
LOVES, CT FIX | DEEDE, NY FIX | 3000 | 17500
DEEDE, NY FIX | PAWLN, NY WP | 3100 | 17500
PAWLN, NY WP | TRESA, NY FIX | 3400 | 17500
TRESA, NY FIX | CYPER, NY FIX | 6100 | 17500
CYPER, NY FIX | PETER, NY FIX | 6100 | 17500
PETER, NY FIX | CODDI, NY FIX | 5800 | 17500
Is Amended To Delete
DANZI, NY WP | CODDI, NY FIX | 4400 | 17500
Is Amended To Read in Part
CODDI, NY FIX | MILID, NY WP | 4600 | 17500
§ 95.4000 High Altitude RNAV Routes
§ 95.4033 RNAV Route Q33 Is Amended By Adding
HUMBLE, TX VORTAC | DAISETTA, TX VORTAC | * 18000 | 45000
* 18000—GNSS MEA
* DME/DME/IRU MEA
DAISETTA, TX VORTAC | SAWMILL, LA VOR/DME | * 18000 | 45000
* 18000—GNSS MEA
* DME/DME/IRU MEA
SAWMILL, LA VOR/DME | LITTR, AR WP | * 18000 | 45000
* 18000—GNSS MEA
* DME/DME/IRU MEA
LITTR, AR WP | PROWL, MO WP | * 18000 | 45000
* 18000—GNSS MEA
* DME/DME/IRU MEA
Is Amended To Delete
DHART, AR FIX | LITTLE ROCK, AR VORTAC | * 20000 | 45000
* 18000—GNSS MEA
* DME/DME/IRU MEA
LITTLE ROCK, AR VORTAC | PROWL, MO WP | * 20000 | 45000
* 18000—GNSS MEA
* DME/DME/IRU MEA
§ 95.4066 RNAV Route Q66 Is Amended By Adding
LITTR, AR WP | METWO, TN WP | * 18000 | 45000
* 18000—GNSS MEA
* DME/DME/IRU MEA
METWO, TN WP | ALEAN, VA WP | * 18000 | 45000
* 18000—GNSS MEA
* DME/DME/IRU MEA
Is Amended To Delete
LITTLE ROCK, AR VORTAC | CIVKI, AR WP | * 18000 | 45000
* 18000—GNSS MEA
* DME/DME/IRU MEA
CIVKI, AR WP | RICKX, AR WP | * 18000 | 45000
* 18000—GNSS MEA
* DME/DME/IRU MEA
RICKX, AR WP | TROVE, TN WP | * 18000 | 45000
* 18000—GNSS MEA
* DME/DME/IRU MEA
TROVE, TN WP | BAZOO, TN WP | * 18000 | 45000
* 18000—GNSS MEA
* DME/DME/IRU MEA
BAZOO, TN WP | METWO, TN WP | * 18000 | 45000
* 18000—GNSS MEA
* DME/DME/IRU MEA
METWO, TN WP | MXEEN, TN WP | * 18000 | 45000
* 18000—GNSS MEA
* DME/DME/IRU MEA
MXEEN, TN WP | ALEAN, VA WP | * 18000 | 45000
* 18000—GNSS MEA
* DME/DME/IRU MEA
§ 95.4097 RNAV ROUTE Q97 Is Amended To Read in Part
ZJAAY, MD WP | BYSEL, MD WP | * 18000 | 45000
* 18000—GNSS MEA
* DME/DME/IRU MEA
BYSEL, MD WP | BRIGS, NJ FIX | * 18000 | 45000
* 18000—GNSS MEA
* DME/DME/IRU MEA
§ 95.4232 RNAV Route Q232 Is Added To Read
STUBN, NY WP | CORDS, PA FIX | * 18000 | 45000
* 18000—GNSS MEA
* DME/DME/IRU MEA
CORDS, PA FIX | NEION, NJ FIX | * 18000 | 45000
* 18000—GNSS MEA
* DME/DME/IRU MEA

From | To | MEA
§ 95.6001 Victor Routes-U.S.
§ 95.6009 VOR Federal Airway V9 Is Amended By Adding
MARVELL, AR VOR/DME | * HILLE, AR FIX | ** 3000
* 6000—MRA
* 4000—MCA HILLE, AR FIX, N BND
** 1600—MOCA
HILLE, AR FIX | WALNUT RIDGE, AR VORTAC | * 4000
* 3100—MOCA
WALNUT RIDGE, AR VORTAC | FARMINGTON, MO VORTAC | 4000
§ 95.6026 VOR Federal Airway V26 Is Amended To Read in Part
REDWOOD FALLS, MN VOR/DME | LYDIA, MN FIX | * 5500
* 2600—MOCA
§ 95.6036 VOR FEDERAL AIRWAY V36 Is Amended To Delete
U.S. CANADIAN BORDER | U.S. CANADIAN BORDER | * 8000
* 3000—MOCA
U.S. CANADIAN BORDER | SAULT STE MARIE, MI VOR/DME | * 4600
* 3100—MOCA
§ 95.6069 VOR Federal Airway V69 Is Amended To Read in Part
HILLE, AR FIX | WALNUT RIDGE, AR VORTAC | * 4000
* 3100—MOCA
WALNUT RIDGE, AR VORTAC | FARMINGTON, MO VORTAC | 4000
§ 95.6078 VOR Federal Airway V78 Is Amended To Delete
DARWIN, MN VORTAC | GOPHER, MN VORTAC | 3000
§ 95.6148 VOR Federal Airway V148 Is Amended To Read in Part
REDWOOD FALLS, MN VOR/DME | GOPHER, MN VORTAC | 3000
§ 95.6171 VOR Federal Airway V171 Is Amended To Delete
FARMINGTON, MN VORTAC | JONNA, MN WP | ** 3500
* 2500—MOCA
** 3000—GNSS MEA
JONNA, MN WP | DARWIN, MN VORTAC | 2900
DARWIN, MN VORTAC | ALEXANDRIA, MN VOR/DME | 3000
Is Amended To Read in Part
LEXINGTON, KY VOR/DME | * MCFEE, KY FIX | 3000
* 9000—MRA
* 9000—MCA MCFEE, KY FIX, NW BND
MCFEE, KY FIX | LOUISVILLE, KY VORTAC | 9000
§ 95.6178 VOR Federal Airway V178 Is Amended To Read in Part
NEW HOPE, KY VOR/DME | * HERMS, KY FIX | 2700
* 7000—MRA
HERMS, KY FIX | * MAUDD, KY FIX | 2800
* 9000—MRA
MAUDD, KY FIX | * MCFEE, KY FIX | 5000
* 9000—MRA
§ 95.6333 Alaska VOR Federal Airway V333 Is Amended To Delete
NOME, AK VOR/DME | GAITS, AK WP
| N BND | 10000
| S BND | 4000
GAITS, AK WP | SHISHMAREF, AK NDB | * 10000
* 6700—MOCA
§ 95.6401 ALASKA VOR FEDERAL AIRWAY V401 Is Amended To Delete
AMBLER, AK NDB | FARME, AK FIX | * 5500
* 4700—MOCA
FARME, AK FIX | KOTZEBUE, AK VOR/DME | 2000
KOTZEBUE, AK VOR/DME | SHISHMAREF, AK NDB | * 2500
* 2000—MOCA

Airway Segment: From | Airway Segment: To | Changeover Points: Distance | Changeover Points: From
§ 95.8003 VOR Federal Airway Changeover Point
Alaska V333 Is Amended To Delete Changeover Point
NOME, AK VOR/DME | SHISHMAREF, AK NDB | 65 | NOME.
Alaska V401 Is Amended To Delete Changeover Point
AMBLER, AK NDB | KOTZEBUE, AK VOR/DME | 40 | AMBLER.
KOTZEBUE, AK VOR/DME | SHISHMAREF, AK NDB | 60 | KOTZEBUE.

[FR Doc. 2024-08863 Filed 4-24-24; 8:45 am]

BILLING CODE 4910-13-P